DEPARTMENT OF STATE

[Delegation of Authority No. 530]

Delegation of Authority to the Assistant Secretary for East Asian and Pacific Affairs Relating to Oversight of the American Institute in Taiwan

By virtue of the authority vested in the Secretary of State by the laws of the United States, including the State Department Basic Authorities Act, as amended (22 U.S.C. 2651a), the Taiwan Relations Act (22 U.S.C. 3301 et seq.), E.O. 13014, and the Foreign Service Act of 1980, as amended (22 U.S.C. 3983(d)), I hereby delegate to the Assistant Secretary for East Asian and Pacific Affairs, to the extent authorized by law, oversight authority over the American Institute in Taiwan (AIT), including but not limited to approving staffing changes that require national interest determinations for assignments or details of U.S. government employees as the case may be.

Any act, executive order, regulation, or procedure subject to, or affected by, this delegation shall be deemed to be such act, executive order, regulation, or procedure as amended from time to time. Authorities delegated herein may be re-delegated, to the extent authorized by law.

The Secretary, the Deputy Secretary, the Deputy Secretary for Management and Resources, the Under Secretary for Political Affairs, and the Under Secretary for Management may also exercise the authorities delegated herein. Nothing in this delegation shall be deemed to supersede or otherwise affect any other delegation of authority.

Any actions related to the functions described herein that may have been taken prior to the date of this delegation are hereby confirmed and ratified. Such actions shall remain in force as if taken under this delegation of authority, unless or until such actions are rescinded, amended, or superseded.

This document shall be published in the Federal Register.

Dated: March 17, 2022.
Antony J. Blinken,
Secretary of State.

[FR Doc. 2022-07638 Filed 4-8-22; 8:45 am]

BILLING CODE 4710-30-P